UNIFIED CARRIER REGISTRATION PLAN

Sunshine Act Meetings

TIME AND DATE: January 29, 2026, 9:30 a.m.-2:30 p.m., Eastern time.

PLACE: This meeting will be held at 529 14th Street NW, Suite 1280, Washington, DC 20045.

STATUS: This meeting will be open to the public.

MATTERS TO BE CONSIDERED: The Unified Carrier Registration Plan Governance Task Force (the “Task Force”) will conduct a meeting to continue its work in developing and implementing the Unified Carrier Registration Plan and Agreement. The subject matter of this meeting will include:

Proposed Agenda

I. Call to Order—UCR Plan Governance Task Force Chair

The UCR Governance Task Force Chair will welcome attendees, call the meeting to order, call roll for the task force, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Task Force Agenda and Setting of Ground Rules—

UCR Plan Governance Task Force Chair

For Discussion and Possible Task Force Action

The Governance Task Force Agenda will be reviewed, and the Task Force will consider adoption.

Ground Rules

➢Task Force action only to be taken in designated areas on agenda.

IV. Approval of Minutes of the November 20, 2025, Task Force Meeting—UCR Governance Task Force Chair

For Discussion and Possible Task Force Action

Draft Minutes from the November 20, 2025, UCR Task Force meeting will be reviewed. The Task Force will consider action to approve.

V. Discussion of Financial Audit and Motor Carrier Regulatory Review Requirements—UCR Governance Task Force Chair

The UCR Governance Task Force Chair will lead a discussion of financial audit and motor carrier regulatory review requirements.

VI. Discussion of Certain Revisions to the UCR Agreement—UCR Governance Task Force Chair

The UCR Governance Task Force Chair will lead a discussion on possible revisions to the UCR Agreement.

VII. Other Business—UCR Plan Governance Task Force Chair

The UCR Plan Governance Task Force Chair will call for any other business, old or new, from the floor, including items from the previous Task Force meeting.

VIII. Adjournment—UCR Plan Governance Task Force Chair

The UCR Plan Governance Task Force Chair will adjourn the meeting.

The agenda will be available no later than 5:00 p.m. Eastern time, January 21, 2026 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2026-01595 Filed 1-23-26; 4:15 pm]

BILLING CODE 4910-YL-P